Proclamation 7481 of October 5, 2001

German-American Day, 2001

By the President of the United States of America

A Proclamation

Each year, on October 6, we recognize German Americans for their many contributions to our Nation. From the first German immigrants who accompanied Captain John Smith to Jamestown more than 300 years ago to the more than 7 million Germans who have since followed them to our shores, Americans of German descent have played a vital role in establishing the strength of our country's democratic spirit. Throughout our history, German Americans have contributed to every facet of the American experience.

German-American soldiers valiantly served our country during the American Revolution. General Frederick Wilhelm von Steuben helped train the Continental Army at Valley Forge; and General Nicholas Herkimer led German settlers in New York's Mohawk Valley in one of the war's bloodiest battles. German Americans also have influenced greatly our artistic heritage. Emanuel Leutze's 1851 painting, “Washington Crossing the Delaware River,” remains a cherished and recognized symbol of American courage and determination.

German Americans advanced our civic liberties through their strong support for freedom of the press. As publisher of the New York Weekly Journal, John Peter Zenger championed the rights of citizens to criticize elected officials in print. The German-language newspaper Pennsylvania Staatsbote published the first printed copy of the Declaration of Independence. And in directing The New York Times through modernization in the early 20th century, Adolph Ochs helped set a new standard for balanced and innovative reporting.

Many German Americans who settled here brought with them values that enhanced and developed the American commitment to freedom. A considerable number of these immigrants joined other freedom loving Americans in becoming leaders in the anti-slavery movement. And thousands of German Americans volunteered to fight for the Union in the Civil War.

On this day, Americans of all backgrounds commemorate our Nation's close relationship with Germany. German Americans have influenced our history, strengthened our ideals, and enriched our culture, and, in the years ahead, they will continue their noble role in helping to ensure the vitality of our democracy.

NOW, THEREFORE, I, GEORGE W. BUSH, President of the United States of America, by virtue of the authority vested in me by the Constitution and laws of the United States, do hereby proclaim October 6, 2001, as German-American Day. I encourage all Americans to recognize the contributions of our citizens of German descent to the liberty and prosperity of the United States, and to celebrate our close ties to the people of Germany.

IN WITNESS WHEREOF, I have hereunto set my hand this fifth day of October, in the year of our Lord two thousand one, and of the Independence of the United States of America the two hundred and twenty-sixth.

B

[FR Doc. 01-25676

Filed 10-9-01; 12:11 pm]

Billing code 3195-01-P